DEPARTMENT OF THE INTERIOR

Bureau of Land Management

[UT-912-02-1120-PG-24-1A]

Notice of Resource Advisory Council Meeting

AGENCY: Bureau of Land Management, Department of the Interior.

ACTION: Notice of Utah Resource Advisory Council (RAC) meeting.

SUMMARY: The purpose of this notice is to announce a Resource Advisory Council Meeting scheduled for June 4-5, 2002, in Price, Utah.

Primary agenda items for this meeting will include a field tour of the coal bed methane fields discussing well placement and raptor nests, artificial nests (examples in the field), current guidance and policy, USFWS recommendations, effects of efficient field development, and other related topics. We will be leaving (June 4, 8 a.m. until 5 p.m.), from the Price Field Office of the Bureau of Land Management, 125 South 600 West, Price, Utah.

A follow-up meeting will then be held on June 5, from 8 a.m.—noon, at the Holiday Inn, Conference Room, 838 Westwood Blvd., Price, Utah. We will discuss the rules and recommendations of Resource Management Plan (RMP) guidelines, RMP updates, OHV management, and a review of the FWS guidelines. From 11:30 until noon, a public comment period is scheduled where members of the public may address the Council. Written comments may be mailed to the Bureau of Land Management at the address listed below. All meetings are open to the public; however, transportation, lodging, and meals are the responsibility of the participating public.

FOR FURTHER INFORMATION CONTACT: Sherry Foot, Special Programs Coordinator, Utah State Office, Bureau of Land Management, 324 South State Street, Salt Lake City, 84111; phone (801) 539-4195.

Dated: April 23, 2002.
Linda Colville,
Acting State Director.

[FR Doc. 02-12921 Filed 5-22-02; 8:45 am]

BILLING CODE 4310-$$-P